DEPARTMENT OF HEALTH AND HUMAN SERVICES

National Institutes of Health

Proposed Collection; Comment Request, The Cardiovascular Health Study (CHS)

AGENCY: In compliance with the requirement of section 3506(c)(2)(A) of the Paperwork Reduction Act of 1995, for opportunity for public comment on proposed data collection projects, the National Heart, Lung, and Blood Institute (NHLBI), the National Institutes of Health (NIH) will publish periodic summaries of proposed projects to be submitted to the Office of Management and Budget (OMB) for review and approval.

Proposed Collection

Title: The Cardiovascular Health Study. Type of Information Request: Revision. (OMB No. 0925-0334). Need and Use of Information Collection: This study will quantify associations between conventional and hypothetical risk factors and coronary heart disease (CHD) and stroke in people age 65 years and older. The primary objectives include quantifying associations of risk factors with subclinical disease, characterize the natural history of CHD, stroke and identify factors associated with clinical course. The findings will provide important information on cardiovascular disease in an older U.S. population and lead to early treatment of risk factors associated with disease and identification of factors which may be important in disease prevention. Frequency of Response: twice a year (participants) or once per cardiovascular disease event (proxies and physicians); Affected Public: Individuals. Types of Respondents: Individuals recruited for CHS and their selected proxies and physicians. The annual reporting burden is as follows: Estimated Number of Respondents: 4,606; Estimated Number of Responses per respondent: 4.55; and Estimated Total Annual Burden Hours Requested: 1,719.

There are no capital, operating, or maintenance costs to report.

Type of respondents | Estimated number of respondents | Estimated number of responses per respondent* | Average burden hours per response | Estimated total annual burden hours requested
Participants | 3,580 | 5.6 | 0.25 | 1,665
Physicians | 606 | 1.0 | 0.10 | 20
Participant proxies | 420 | 1.0 | 0.25 | 35
Total | 4,606 | 4.55 | 0.246 | 1,719
*Total for 3 years.

Request for Comments

Written comments and/or suggestions from the public and affected agencies are invited on one or more of the following points: (1) Whether the proposed collection of information will have practical utility; (2) The accuracy of the agency's estimate of burden of the proposed collection of information, including the validity of the methodology and assumptions used; (3) Ways to enhance the quality, utility, and clarity of the information to be collected; and (4) Ways to minimize the burden of collection of information on those who are to respond, including the use of appropriate automated, electronic, mechanical, or other technological collection techniques or other forms of information technology.

FOR FURTHER INFORMATION CONTACT: To request more information on the proposed project or to obtain a copy of data collection plans and instruments, contact Dr. Diane Bild, Division of Epidemiology and Clinical Applications, Epidemiology and Biometry Program, NHLBI, NIH, II Rockledge Centre, 6701 Rockledge Drive, MSC 7934, Bethesda, MD 20892-7934, or call non-toll-free number (301) 435-0707, or e-mail your request, including your address to: bild@nih.gov.

DATES: Comments Due Date: Comments regarding this information collection are best assured of having their full effect if received on or before February 2, 2001.

Dated: November 16, 2000.
Peter Savage,
Acting Director, Division of Epidemiology and Clinical Applications, National Heart, Lung, and Blood Institute.

[FR Doc. 00-30713 Filed 12-1-00; 8:45 am]

BILLING CODE 4140-01-M